DEPARTMENT OF LABOR

Employment and Training Administration

[TA-W-65,266]

Advanced Energy Industries, Inc., Vancouver, WA, Notice of Termination of Investigation

Pursuant to Section 221 of the Trade Act of 1974, as amended, an investigation was initiated on February 17, 2009 in response to a petition filed by a company official on behalf of the workers at Advanced Energy Industries, Inc., Vancouver, Washington.

The petitioner has requested that the petition be withdrawn. Consequently, the investigation has been terminated.

Signed at Washington, DC, this 11th day of March 2009.
Richard Church,
Certifying Officer, Division of Trade Adjustment Assistance.

[FR Doc. E9-5912 Filed 3-18-09; 8:45 am]

BILLING CODE 4510-FN-P